DEPARTMENT OF HOMELAND SECURITY

Coast Guard

33 CFR Part 117

[Docket No. USCG-2011-0090]

Drawbridge Operation Regulation; Shark River (South Channel), Belmar, NJ

AGENCY: Coast Guard, DHS.

ACTION: Notice of temporary deviation from regulations.

SUMMARY: The Commander, Fifth Coast Guard District, has issued a temporary deviation from the regulations governing the operation of the S71 Bridge across Shark River (South Channel), mile 0.8, at Belmar, NJ. The deviation is necessary to help lessen traffic congestion during the Saint Patrick's Day Parade. This deviation allows the drawbridge to be maintained in the closed position to vessels on March 6, 2011 from 9 a.m. to 3 p.m. and from 6 p.m. to 11:59 p.m.

DATES: This deviation is effective from 9 a.m. to 11:59 p.m. on March 6, 2011.

ADDRESSES: Documents mentioned in this preamble as being available in the docket are part of docket USCG-2011-0090 and are available online by going to http://www.regulations.gov, inserting USCG-2011-0090 in the “Keyword” box and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Terrance A Knowles, Environmental Protection Specialist, Fifth Coast Guard District; telephone 757-398-6587, e-mail Terrance.A.Knowles@uscg.mil. If you have questions on viewing the docket, call Renee V. Wright, Program Manager, Docket Operations, telephone 202-366-9826.

SUPPLEMENTARY INFORMATION: The S71 Bridge, a bascule lift drawbridge, across Shark River (South Channel), at mile 0.8, in Belmar, NJ, has a vertical clearance in the closed position to vessels of approximately 13 feet above mean high water.

On behalf of the Town of Belmar, New Jersey Department of Transportation (NJDOT) has requested a temporary deviation from the current operating regulations of the bridge set out in 33 CFR 117.751 to accommodate the Saint Patrick's Day parade scheduled for Sunday, March 6, 2011.

Under this deviation, the drawbridge would be allowed to remain in the closed to navigation position on two separate closure periods starting from 9 a.m. to 3 p.m. and from 6 p.m. to 11:59 p.m. on Sunday, March 6, 2011, to help lessen traffic congestion related to the Saint Patrick's Day parade.

Bridge opening data, supplied by NJDOT and reviewed by the Coast Guard, revealed that the bridge opened for vessels approximately 80 times in the month of March 2010. The primary user of the waterway that operates in the vicinity of the bridge is commercial fishermen. Vessels that are able can pass underneath the bridge in the closed position at any time. There are no alternate routes for vessels transiting this section of Shark River (South Branch) and the drawbridge will be able to open in the event of an emergency.

The Coast Guard will inform the users of the waterway through our Local and Broadcast Notices to Mariners of the closure periods for the bridge so that vessels can arrange their transits to minimize any impact caused by the temporary deviation.

In accordance with 33 CFR 117.35(e), the drawbridge must return to its regular operating schedule immediately at the end of the designated time period. This deviation from the operating regulations is authorized under 33 CFR 117.35.

Dated: February 11, 2011.
Waverly W. Gregory, Jr.,
Chief, Bridge Administration Branch, Fifth Coast Guard District.

[FR Doc. 2011-4735 Filed 3-2-11; 8:45 am]

BILLING CODE 9110-04-P